DEPARTMENT OF THE TREASURY

Internal Revenue Service

26 CFR Part 1

[REG-107101-00]

RIN 1545-AY13

Treaty Guidance Regarding Payments With Respect to Domestic Reverse Hybrid Entities; Hearing Cancellation

AGENCY: Internal Revenue Service (IRS), Treasury.

ACTION: Cancellation of notice of public hearing on proposed rulemaking.

SUMMARY: This document provides notice of cancellation of a public hearing on proposed regulations relating to payments with respect to domestic reverse hybrid entities.

DATES: The public hearing originally scheduled for Tuesday, June 26, 2001, at 10 a.m., is canceled.

FOR FURTHER INFORMATION CONTACT: Guy R. Traynor of the Regulations Unit, Office of Special Counsel, (202) 622-7180 (not a toll-free number).

SUPPLEMENTARY INFORMATION: A notice of proposed rulemaking and notice of public hearing that appeared in the Federal Register on Tuesday, February 27, 2001 (66 FR 12445), announced that a public hearing was scheduled for June 26, 2001 at 10 a.m., in the auditorium of the Internal Revenue Building, 1111 Constitution Avenue NW., Washington, DC. The subject of the public hearing is proposed regulations under section 894 of the Internal Revenue Code. The public comment period for these regulations expired on May 29, 2001.

The notice of proposed rulemaking and notice of public hearing, instructed those interested in testifying at the public hearing to submit a request to speak and an outline of the topics to be addressed by June 5, 2001. As of June 12, 2001, no one has requested to speak. Therefore, the public hearing scheduled for June 26, 2001, is canceled.

Cynthia E. Grigsby,
Chief, Regulations Unit, Office of Special Counsel (Modernization & Strategic Planning).

[FR Doc. 01-15173 Filed 6-15-01; 8:45 am]

BILLING CODE 4830-01-P